FEDERAL MARITIME COMMISSION

Notice of Agreements Filed

The Commission hereby gives notice of the filing of the following agreements under the Shipping Act of 1984. Interested parties may submit comments on the agreement to the Secretary, Federal Maritime Commission, Washington, DC 20573, within ten days of the date this notice appears in the Federal Register. A copy of the agreement is available through the Commission's Web site (http://www.fmc.gov) or by contacting the Office of Agreements at (202)-523-5793 or tradeanalysis@fmc.gov.

Agreement No.: 011426-049.

Title: West Coast of South America Discussion Agreement.

Parties: A.P. Moller-Maersk A/S; APL Co. Pte Ltd.; Compania Chilena de Navegacion Interoceanica, S.A.; Compania Sud Americana de Vapores, S.A.; Frontier Liner Services, Inc.; Hamburg-Süd; Interocean Lines, Inc.; King Ocean Services Limited, Inc.; Mediterranean Shipping Company, SA; Seaboard Marine Ltd.; South Pacific Shipping Company, Ltd. (dba Ecuadorian Line); and Trinity Shipping Line.

Filing Party: Wayne R. Rohde, Esq.; Cozen O'Connor; 1627 I Street, NW., Suite 1100; Washington, DC 20006-4007.

Synopsis: The amendment updates APL's corporate address.

Agreement No.: 012086-001.

Title: Maersk Line/Horizon Lines Space Charter Agreement.

Parties: A.P. Moller-Maersk A/S and Horizon Lines, LLC.

Filing Party: Matthew Thomas, Esq.; Reed Smith LLP; 1301 K Street, NW., Suite 1100-East Tower; Washington, DC 20005.

Synopsis: The amendment deletes authority for Maersk to charter space from Horizon in the trade lane from Hawai'i to China/Taiwan after November 24, 2010.

Agreement No.: 012111.

Title: Hainan PO Shipping Co., Ltd. and TS Lines Ltd. Slot Charter Agreement.

Parties: Hainan PO Shipping Co., Ltd. and T.S. Lines Ltd.

Filing Party: Neal M. Mayer, Esq.; Hoppel, Mayer & Coleman; 1050 Connecticut Avenue, NW., Tenth Floor; Washington, DC 20036

Synopsis: The agreement authorizes the parties to provide space to each other on an “as needed/as available” basis in the trade between the U.S. Pacific Coast and China.

Dated: November 24, 2010.
By Order of the Federal Maritime Commission.
Karen V. Gregory,
Secretary.

[FR Doc. 2010-30130 Filed 11-30-10; 8:45 am]

BILLING CODE P